DEPARTMENT OF HEALTH AND HUMAN SERVICES

National Institutes of Health

National Institute of Diabetes and Digestive and Kidney Diseases Amended Notice of Meeting

Notice is hereby given of a change in the meeting of the National Institute of Diabetes and Digestive and Kidney Diseases Special Emphasis Panel, March 13, 2019, 11:30 a.m. to March 13, 2019, 3:30 p.m., National Institutes of Health, Two Democracy Plaza, 6707 Democracy Boulevard, Bethesda, MD, 20892 which was published in the Federal Register on February 11, 2019, 84 FR 3202.

This meeting notice is being amended to change the meeting date from March 13, 2019 to April 2, 2019. The meeting is closed to the public.

Dated: March 13, 2019.
Melanie J. Pantoja,
Program Analyst, Office of Federal Advisory Committee Policy.

[FR Doc. 2019-05066 Filed 3-18-19; 8:45 am]

BILLING CODE 4140-01-P